DEPARTMENT OF AGRICULTURE

Forest Service

Southwestern Region; Authorization of Livestock Grazing Activities on the Sacramento Grazing Allotment, Sacramento Ranger District, Lincoln National Forest, Otero County, NM

AGENCY: Forest Service, USDA.

ACTION: Revised notice of intent to prepare an environmental impact statement.

SUMMARY: The Forest Service will prepare an environmental impact statement on a proposal to authorize livestock grazing activities on the Sacramento Grazing Allotment. The project area encompasses over 111,000 acres of National Forest lands on the Sacramento Ranger District of the Lincoln National Forest. The Sacramento Grazing Allotment comprises approximately 25% of the ranger district.

The project has generated controversy on three main points; effects to threatened and endangered animal and plant species, concern for degraded riparian areas, and forage competition between wildlife and livestock.

The Notice of Intent to prepare an environmental impact statement was first published in the Federal Register on Friday, May 5, 1999 (Volume 64, Number 86, pages 24132-24134). The Notice announced that a draft environmental impact statement would be available for review in July 1999, and a final environmental impact statement would be available for review in September 1999. A Revised Notice of Intent was published in the Federal Register on March 8, 2000 (Volume 65, Number 46, page 12202). The revised notice announced that a draft environmental impact statement was now expected to be available for public review in July 2000 and a final environmental impact statement should be available for review by October 2000. This notice revises the expected date of availability for public review of a draft environmental impact statement to June 2002, a final environmental impact statement should be available for review in October 2002.

FOR FURTHER INFORMATION CONTACT: Rick Newmon or Mark Cadwallader, Lincoln National Forest, Sacramento Ranger District, P.O. Box 288, Cloudcroft, New Mexico, 88317, (505) 682-2551.

Authority: 16 U.S.C. 472, 551.

Dated: May 7, 2002.
Gerald M. Hawkes,
Acting Forest Supervisor, Lincoln National Forest.

[FR Doc. 02-11966 Filed 5-13-02; 8:45 am]

BILLING CODE 3410-11-M